DEPARTMENT OF COMMERCE

National Oceanic and Atmospheric Administration

RIN: 0648-XQ43

Fisheries of the South Atlantic; South Atlantic Fishery Management Council; Public Meeting

AGENCY: National Marine Fisheries Service (NMFS), National Oceanic and Atmospheric Administration (NOAA), Commerce.

ACTION: Notice of a public meeting of the South Atlantic Fishery Management Council's (Council) Habitat and Environmental Protection (Habitat) Advisory Panel (AP).

SUMMARY: The South Atlantic Fishery Management Council will hold a meeting of its Habitat Advisory Panel in North Charleston, SC.

DATES: The meeting will take place August 11-12, 2009. See SUPPLEMENTARY INFORMATION for specific dates and times..

ADDRESSES: The meeting will be held at the Hilton Garden Inn, 5265 International Boulevard, North Charleston, SC; telephone: (843) 308-9330.

FOR FURTHER INFORMATION CONTACT: Kim Iverson, Public Information Officer, South Atlantic Fishery Management Council, 4055 Faber Place Drive, Suite 201, N. Charleston, SC 29405; telephone: (843) 571-4366 or toll free (866) SAFMC-10; fax: (843) 769-4520; email: kim.iverson@safmc.net.

SUPPLEMENTARY INFORMATION: Members of the Habitat Advisory Panel will meet from 8:30 a.m. - 5 p.m. on August 11, 2009, and from 8:30 a.m. until 12 noon on August 12, 2009.

The Advisory Panel will receive updates relative to the coordination of ecosystem-related activities including NOAA Fisheries' Habitat Conservation Program, Ocean Observing Systems including Southeast Coastal Ocean Observing Regional Association (SECOORA) and the U.S. Integrated Ocean Observing System (IOOS), Navy activities in the South Atlantic Region, U.S. Fish and Wildlife Service's Strategic Habitat Conservation, and the South Atlantic Governor's Alliance. The AP will also receive updates on regional ecosystem research including the Council's Internet Mapping Server (IMS) and developing research server, Fishery Independent Research programs, National Marine Sanctuary Program, South Atlantic Research Project (SARRP), development of Aquatic Living Resources Indicators for the Albemarle-Pamlico National Estuary Program (APNEP) and NOAA Fisheries' Beaufort, NC lab research activities.

The AP will review the Council's draft Comprehensive Ecosystem-Based Amendment 2 and provide recommendations as appropriate.

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Act, provided the public has been notified of the Council's intent to take final action to address the emergency.

Note: The times and sequence specified in this agenda are subject to change.

Special Accommodations

These meetings are physically accessible to people with disabilities. Requests for auxiliary aids should be directed to the Council office (see ADDRESSES) 3 days prior to the meeting.

Dated: July 21, 2009.
Tracey L. Thompson,
Acting Director, Office of Sustainable Fisheries, National Marine Fisheries Service.

[FR Doc. E9-17654 Filed 7-23-09; 8:45 am]

BILLING CODE 3510-22-S